DEPARTMENT OF HOMELAND SECURITY

Coast Guard

[USCG-2003-15325]

Chemical Transportation Advisory Committee

AGENCY: Coast Guard, DHS.

ACTION: Notice of meeting.

SUMMARY: The Chemical Transportation Advisory Committee (CTAC) and its Hazardous Cargo Transportation Security Subcommittee will meet to discuss security issues relating to the marine transportation of hazardous materials in bulk. These meetings will be open to the public.

DATES: CTAC will meet on Thursday, July 17, 2003, from 8 a.m. to 4 p.m. The Subcommittee on Hazardous Cargo Transportation Security will meet on Tuesday, July 15, 2003, from 8 a.m. to 4 p.m. and Wednesday, July 16, 2003, from 8 a.m. to 4 p.m. These meetings may close early if all business is finished. Written material and requests to make oral presentations should reach the Coast Guard on or before July 7, 2003. Requests to have a copy of your material distributed to each member of the Committee should reach the Coast Guard on or before July 7, 2003.

ADDRESSES: CTAC will meet at the Romano Mazzoli Federal Building, 600 Martin Luther King, Jr. Place, Louisville, KY, in room 27. The Subcommittee on Hazardous Cargo Transportation Security will meet at American Commercial Barge Line (ACBL) Company, 1701 E. Market St., Jeffersonville, IN, on the fifth floor. Send written material and requests to make oral presentations to Commander James M. Michalowski, Executive Director of CTAC, Commandant (G-MSO-3), U.S. Coast Guard Headquarters, 2100 Second Street SW., Washington, DC 20593-0001. This notice is available on the Internet at http://dms.dot.gov.

FOR FURTHER INFORMATION CONTACT: Commander James M. Michalowski, Executive Director of CTAC, or Ms. Sara Ju, Assistant to the Executive Director, telephone 202-267-1217, fax 202-267-4570.

SUPPLEMENTARY INFORMATION: Notice of these meetings is given under the Federal Advisory Committee Act, 5 U.S.C. App. 2.

Agenda of Subcommittee Meeting on July 15-16, 2003

(1) Introduce Subcommittee members and attendees.

(2) Discuss inland vessel tracking system.

(3) Discuss communications/publications.

(4) Discuss crew concerns.

(5) Discuss Declaration of Security (DOS) forms.

(6) Discuss outreach initiatives concerning U.S. Coast Guard security regulations.

(7) Review and prepare comments for six interim rules that promulgate maritime security requirements mandated by the Maritime Transportation Security Act of 2002.

Agenda of CTAC Meeting on Thursday, April 17, 2003

(1) Introduce Committee members and attendees.

(2) Review and prepare comments for six interim rules that promulgate maritime security requirements mandated by the Maritime Transportation Security Act of 2002.

Procedural

These meetings are open to the public. Please note that the meetings may close early if all business is finished. At the discretion of the Chair, members of the public may make oral presentations during the meetings. If you would like to make an oral presentation at a meeting, please notify the Executive Director and submit written material on or before July 7, 2003. If you would like a copy of your material distributed to each member of the Committee in advance of a meeting, please submit 25 copies to the Executive Director (see ADDRESSES) no later than July 7, 2003.

Information on Services for Individuals With Disabilities

For information on facilities or services for individuals with disabilities, or to request special assistance at the meeting, telephone the Executive Director as soon as possible.

Dated: June 4, 2003.
Howard L. Hime,
Acting Director of Standards, Marine Safety, Security and Environmental Protection.

[FR Doc. 03-14589 Filed 6-9-03; 8:45 am]

BILLING CODE 4910-15-P